DEPARTMENT OF THE INTERIOR

National Park Service

Notice of Inventory Completion: Phoebe A. Hearst Museum of Anthropology, University of California, Berkeley, Berkeley, CA

AGENCY: National Park Service, Interior.

ACTION: Notice

Notice is here given in accordance with the Native American Graves Protection and Repatriation Act (NAGPRA), 25 U.S.C. 3003, of the completion of an inventory of human remains and associated funerary objects in the possession of the Phoebe A. Hearst Museum of Anthropology, University of California, Berkeley, Berkeley, CA. The human remains and associated funerary objects were removed from the Redding Number 1 site (CA-Sha-47), Shasta County, CA, and the Frank Pierce site (CA-Tri-58), Trinity County, CA.

This notice is published as part of the National Park Service's administrative responsibilities under NAGPRA, 25 U.S.C. 3003 (d)(3). The determinations within this notice are the sole responsibility of the museum, institution, or Federal agency that has control of the Native American human remains and associated funerary objects. The National Park Service is not responsible for the determinations within this notice.

An assessment of the human remains, and catalog records and associated documents relevant to the human remains, was made by Phoebe A. Hearst Museum of Anthropology professional staff in consultation with representatives of the Cachil DeHe Band of Wintun Indians of the Colusa Indian Community of the Colusa Rancheria, California; Cortina Indian Rancheria of Wintun Indians of California; Grindstone Indian Rancheria of Wintun-Wailaki Indians of California; Paskenta Band of Nomlaki Indians of California; Redding Rancheria, California; Round Valley Indian Tribes of the Round Valley Reservation, California; and Rumsey Indian Rancheria of Wintun Indians of California.

In 1935, human remains representing at least six individuals were removed from the Redding Number 1 site (CA-Sha-47), located on the east bank of the Sacramento River, Shasta County, CA, during excavations sponsored by the University of California, Berkeley. No known individuals were identified. The 27 associated funerary objects are 22 shell beads, 2 shell pendants, 2 pieces of baked clay, and 1 piece of ochre.

Based on the presence of chronologically diagnostic artifacts in the burials and in other areas of the site, the Redding Number 1 site is dated to circa A.D. 1600 and later.

In 1957, human remains representing at least two individuals were removed from the Frank Pierce site (CA-Tri-58), on the Trinity River, Trinity County, CA, during excavations carried out by the University of California, Berkeley. No known individuals were identified. The 73 associated funerary objects are 30 obsidian blanks, 22 obsidian flakes, 6 obsidian points, 1 obsidian scraper, 1 glass bead, 5 shell beads, 6 shell blanks, 1 pestle, and 1 bow fragment.

Based on the presence of chronologically diagnostic objects in other parts of the site, and the presence of a glass bead in one of the two burials, the Frank Pierce site is dated to a period postdating European contact.

Occupation of the Redding Number 1 site and the Frank Pierce site postdates the movement of Wintun people into the area at approximately A.D. 1000. Cultural affiliation with Wintun descendants, represented by the Cachil DeHe Band of Wintun Indians of the Colusa Indian Community of the Colusa Rancheria, California; Cortina Indian Rancheria of Wintun Indians of California; Grindstone Indian Rancheria of Wintun-Wailaki Indians of California; Paskenta Band of Nomlaki Indians of California; Redding Rancheria, California; Round Valley Indian Tribes of the Round Valley Reservation, California; and Rumsey Indian Rancheria of Wintun Indians of California is based on linguistic evidence, regional archeological evidence, and oral traditions that include references to local geographical features as part of the mythology.

Officials of the Phoebe A. Hearst Museum of Anthropology have determined that, pursuant to 25 U.S.C. 3001 (9-10), the human remains described above represent the physical remains of at least eight individuals of Native American ancestry. Officials of the Phoebe A. Hearst Museum of Anthropology also have determined that, pursuant to 25 U.S.C. 3001 (3)(A), the 100 objects described above are reasonably believed to have been placed with or near individual human remains at the time of death or later as part of the death rite or ceremony. Lastly, officials of the Phoebe A. Hearst Museum of Anthropology have determined that, pursuant to 25 U.S.C. 3001 (2), there is a relationship of shared group identity that can be reasonably traced between the Native American human remains and associated funerary objects and the Cachil DeHe Band of Wintun Indians of the Colusa Indian Community of the Colusa Rancheria, California; Cortina Indian Rancheria of Wintun Indians of California; Grindstone Indian Rancheria of Wintun-Wailaki Indians of California; Paskenta Band of Nomlaki Indians of California; Redding Rancheria, California; Round Valley Indian Tribes of the Round Valley Reservation, California; and Rumsey Indian Rancheria of Wintun Indians of California.

Representatives of any other Indian tribe that believes itself to be culturally affiliated with the human remains and associated funerary objects should contact C. Richard Hitchcock, NAGPRA Coordinator, Phoebe A. Hearst Museum of Anthropology, University of California, Berkeley, CA 94720, telephone (510) 642-6096, before December 3, 2003. Repatriation of the human remains and associated funerary objects to the Cachil DeHe Band of Wintun Indians of the Colusa Indian Community of the Colusa Rancheria, California; Cortina Indian Rancheria of Wintun Indians of California; Grindstone Indian Rancheria of Wintun-Wailaki Indians of California; Paskenta Band of Nomlaki Indians of California; Redding Rancheria, California; Round Valley Indian Tribes of the Round Valley Reservation, California; and Rumsey Indian Rancheria of Wintun Indians of California may proceed after that date if no additional claimants come forward.

The Phoebe A. Hearst Museum of Anthropology is responsible for notifying the Cachil DeHe Band of Wintun Indians of the Colusa Indian Community of the Colusa Rancheria, California; Cortina Indian Rancheria of Wintun Indians of California; Grindstone Indian Rancheria of Wintun-Wailaki Indians of California; Paskenta Band of Nomlaki Indians of California; Redding Rancheria, California; Round Valley Indian Tribes of the Round Valley Reservation, California; and Rumsey Indian Rancheria of Wintun Indians of California that this notice has been published.

Dated: September 2, 2003.
John Robbins,
Assistant Director, Cultural Resources.

[FR Doc. 03-27523 Filed 10-31-03; 8:45 am]

BILLING CODE 4312-50-S